DEPARTMENT OF HEALTH AND HUMAN SERVICES

Indian Health Service

[Funding Opportunity Number: HHS-2009-IHS-CYP-0001]

Office of Clinical and Preventive Services; Children and Youth Projects; Announcement Type: New Cooperative Agreement CFDA Number: 93.933

Key Dates:

Letter of Intent Deadline: May 28, 2009.

Application Receipt Deadline: June 25, 2009.

Anticipated Application Review Date: July 22-24, 2009.

Application Notification: August 3-12, 2009.

Earliest Anticipated Start Date: September 16, 2009.

I. Funding Opportunity Description

The Indian Health Service (IHS) announces a full competition for cooperative agreements for Children and Youth Projects (CYP) established to assist Federally-recognized Tribes, Tribal organizations and urban Indian organizations serving American Indian and Alaska Native (AI/AN) children and youth. These cooperative agreements are established under the authority of the Indian Health Care Improvement Act, 25 U.S.C. 1621(o), and Section 301(a) of the Public Health Service Act, as amended. This program is described at 93.933 in the Catalog of Federal Domestic Assistance. In 2003, and again in 2006, the IHS, Office of the Director provided up to three years of support for the Child and Youth Health Initiative (CYHI) and CYP respectively. Twenty-three programs in rural, remote and urban AI/AN communities were awarded with additional funding support from the Administration for Native Americans (ANA) partnership in the first project period and eleven projects in the second project period. These community projects characterized varied approaches to promoting the health and well-being of AI/AN youth. The current announcement seeks to expand the reach into new communities and/or enhance existing programs.

The purpose of the CYP is to assist Federally recognized Tribes, Tribal organizations and urban Indian organizations in promoting healthy practices for AI/AN school age children in community settings. This will be accomplished through community designed public health approaches in community, school and afterschool settings. The Maternal and Child Health (MCH) Program has determined that cooperative agreements are the funding mechanism best suited for the projects to achieve agency and MCH programmatic goals.

The IHS MCH Program goals are: (1) To support a mind/body/spirit context of well-being for AI/AN children and youth in settings with their peers; (2) to promote age-appropriate healthy nutrition and food choices; (3) to emphasize cardiovascular fitness and age-appropriate healthy weight status; and (4) to promote age-appropriate developmental and social skills for optimal child and adolescent mental health. Program goals additionally seek to promote academic success. MCH Program goals encourage support of group and peer activities that are informed by local culture and traditional knowledge. Program goals emphasize activities conducted in appropriate settings and safe environments. Native language and the fostering of intergenerational relationships are considered to be part of program development and enhancement. The MCH programmatic goals align with the “Healthy People 2010” goals and sub-objectives for children and youth. Goals specific to the 2009 Child and Youth Projects are as follows:

A. Newly funded projects will demonstrate quality process, impact and outcome data within two years of initial start-up.

B. Established and or previously funded projects (those with at least two years of documented project evaluation data) will demonstrate, within two years of this funding, how data is being used for developing or refining direct services, public health approaches, school-linked activities and/or policies addressing children and youth.

C. Project activities must include school age children and youth (5 to 19 years of age) specific community services in one or more settings including, for example: Summer programs, camps, seasonal activities, before and after school programs, school-linked activities and clinic-linked activities with a community outreach focus.

D. Projects that link health activities and foster native language; the imparting of traditional cultural values and practices; parent and family involvement; and intergenerational and peer mentoring are encouraged.

E. Projects designed to change health behaviors by modifying the environment and/or implementing/enforcing policies and procedures are encouraged.

Projects will be funded in one of three categories. Community capacity, size of the target population, and project reach and complexity vary. Funds will be made available for small projects to be funded at $25,000, for medium projects to be funded at $50,000, and for larger projects to be funded at $75,000 per year for up to a total of five years.

Note: For any current CYP grantees under separate awards that wish to apply for this funding period, September 16, 2009-September 15, 2014, grantee must not have overlapping award dates. If a funding date overlaps, grantee must terminate from current awards or have the newly funded grant amount reduced to avoid dual funding. This announcement applies to new and existing applicants. For additional information or clarification, please contact Ms. Michelle Bulls, Grants Policy Officer at (301) 443-6528.

II. Award Information

Type of Awards: Cooperative Agreement (CA).

Estimated Funds Available: The total amount identified for fiscal year (FY) 2009 is approximately $600,000. The awards are for 60 months in duration. The average award for Category I is approximately $25,000. The average award for Category II is approximately $50,000. The average award for Category III is approximately $75,000. In fiscal year 2010 an estimated $600,000 is available for continuation awards based on progress and availability of funds.

Categories of Cooperative Agreement (CA) covered under this announcement:

• Category I—Small CYP: Approximately 16% of funds are available to fund up to four awards for the Small CYP. Individual awards are for up to $25,000.

• Category II—Medium CYP: Approximately 34% of funds are available to fund up to four awards for the Medium CYP. Individual awards are for up to $50,000.

• Category III—Large CYP: Approximately 50% of funds are available to fund up to four awards for the Large CYP considered “experienced” as determined in the application under past and current activities documenting the history of the planning, implementation, and evaluation of previous projects for this target population. These large individual awards are for up to $75,000.

Anticipated Number of Awards: 12.

Project Period: September 16, 2009-September 15, 2014, 60 months.

The CA will be a 12-month budget period with five project years.

• Category I—Small CYP—five years beginning on or about September 16, 2009.

• Category II—Medium CYP—five years beginning on or about September 16, 2009.

• Category III—Large CYP—five years beginning on or about September 16, 2009.

Award Amount: $25,000, $50,000 or $75,000 per year.

• Category I—Small CYP—$25,000.

• Category II—Medium CYP—$50,000.

• Category III—Large CYP—$75,000.

Future continuation awards within the project period will be based on satisfactory performance. This includes the collection and reporting of evaluation data. Continuation is based on the availability of funding and continuing needs of the IHS. These annual non-competitive continuation applications will be submitted for Year II through V funding.

Maximum Funding Level: The maximum funding level includes both direct and indirect costs. Application budgets which exceed the maximum funding level or project period identified for a project category will not be reviewed. Applicants seeking funding in more than one category will not be reviewed.

Programmatic Involvement: The cooperative agreement will have substantial oversight to ensure evaluation of best practices and high quality performance in sustaining capacity of the CYP.

A. Cooperative Agreement Awardee Activities for all Categories: The letter of intent and the application should state the requested budget category (small, medium, or large).

Applicant should document in the letter of intent and the application the following in justifying the requested budget category:

• Contact frequency, duration and intensity:

• Program frequency—daily to once or twice a year event.

• Duration—minutes, hours, full day, full week.

• Intensity—interpersonal level of staff engagement, including one-on-one, small group, large group.

• Reach and impact in the community:

• Reach—single or multiple settings.

• Impact—altering utilization/attendance/key health indicators.

• Target population:

• Broad or narrow target population and catchment area.

• Size of target population of less than 50 children annually, more than 50 children annually, or more than 100 children annually.

B. Substantial Involvement Description for Cooperative Agreement Activities for Category I—Small CYP: The CA Category I—Small CYP awardee (Tribe, Tribal organization or urban Indian organization) will be responsible for activities listed under C. IHS will be responsible for activities listed under F. A contractor will be hired by MCH to assist in the oversight in Category I. Oversight includes assurances to promote evaluation of best practices and high quality performance in sustaining the Children and Youth Grant Programs. The contractor will be responsible in reporting to the IHS CYP project officer on the progress and issues of the cooperative agreement awardee.

C. Cooperative Agreement Awardee Activities for Category I—Small CYP: Provide a coordinator who has the authority, responsibility, and expertise to plan, implement, and evaluate the project. Position may be existing or new part-time or split duties. Where available, projects should demonstrate coordination with other children and youth services in the recipient's Tribe, Tribal organization or urban Indian organization, Tribal health department, advisory committee/children's coalition, and/or community-based program in order to maximize opportunities and share resources. Demonstrate awareness of where to find data sources including: Health, child welfare, educational, and psycho-social data descriptive of the children and youth population being served, including those at risk. Develop a work plan based on community need, health data and prioritized for prevention and wellness. This would include specific process measures and action steps to accomplish each. Show how project will be implemented and evaluated to reduce risk and promote wellbeing. During the first year of funding, focus should be built around the development of an action plan for evaluation of proposed activities. Implement project to gain visibility and further collaboration in the community. Present evaluation findings of the project's effect on the recipients, key staff and other community stakeholder(s) as proposed. The project coordinator will collaborate in planning and hosting a one day site visit in Year I and Year III by the IHS project officer, and IHS contractor. The project coordinator will budget for and attend a project Year II and Year IV training meeting with other awardees, IHS CYP project officer, and IHS contractor. The Year II meeting may be in conjunction with a national IHS meeting. Conference calls and e-mail communication individually and through a group listserv is expected. The project coordinator will collaborate with the IHS CYP project officer in timely submission of required reports.

D. Substantial Involvement Description for Cooperative Agreement Activities for Category II—Medium and Category III—Large CYP: For these categories, awardee (Tribe, Tribal organization or urban Indian organization) will be responsible for activities listed under E. IHS will be responsible for activities listed under F. A contractor will be hired by MCH to assist in the oversight. Oversight includes assurances to promote best practices and high quality performance in sustaining the CYP. The contractor will be responsible for reporting to the IHS CYP project officer on the progress and issues of the cooperative agreement awardee.

E. Cooperative Agreement Awardee Activities for Category II—Medium and Category III—Large CYP: Where available, demonstrate how coordination will take place with child and youth programs in the recipient's community and region. This may include Tribal and urban Indian organizations, health departments, epidemiology centers (EC), the State MCH Bureau (Title V) and or other community-based programs to serve to maximize resources and enhance sustainability. Provide a coordinator who has the authority, responsibility, and expertise to plan, implement and evaluate the project, and show that percentage of time devoted to project is commensurate with the list of objectives, activities, and evaluation activities. Position is expected to be .75 full time equivalent (FTE) to 1.0 FTE. Review health, child welfare, and educational, and/or psycho-social data descriptive of children and youth population being served, including those at greatest risk. Monitor program data internally or demonstrate collaboration on data monitoring for purposes of program evaluation. Develop a work plan based on community need, health data and prioritized for prevention and wellness. This would include specific process objectives and action steps to accomplish each. A core set of indicators would be jointly agreed upon by the project and the IHS project officer. Develop, implement, and evaluate a proven or promising project to reduce risk and promote well being in children and youth target population. Any planning phase should be near completion or already completed by the start of Year I. Implement project with intent to gain visibility and further collaboration in the community through reporting to a health board or child advisory committee. Evaluate the effect of the project on the recipients, key staff and other children and youth community stakeholders. The project coordinator will assist with the development of an agenda and plan for a one day site visit in Year I and Year III by IHS project officer and IHS contractor. The project coordinator will budget for and attend a project Year II and Year IV training meeting with other awardees, IHS CYP project officer and IHS contractor. The Year II meeting may be in conjunction with a national IHS meeting. Conference calls and e-mail communication individually and through a group listserv is expected. The project coordinator will collaborate with the IHS CYP project officer in timely submission of required reports.

F. Indian Health Service Cooperative Agreement Activities for all Funded Projects: The IHS MCH Coordinator or designee will serve as project officer for the CYP. The MCH program will provide consultation and technical assistance. Technical assistance also includes assistance in program implementation, marketing, evaluation, reporting, and sharing with other awardees. An IHS contractor (designated by the MCH program) will be responsible for technical assistance oversight, monitoring reporting of projects, conference calls, a listserv, and site visits. The IHS contractor serves as a technical liaison to the IHS MCH program and the CYP Cooperative Agreement Awardee. The IHS and the contractor will coordinate a Year I and Year III site visit, a Year II and Year IV training workshop for the project coordinators to share lessons learned, successes, new community strategies in children and youth health promotion, and best practices. Year III a second site visit will take place and in Year IV a second training/meeting will be held for all grantees.

III. Eligibility Information

A. Eligible Applicant, the AI/AN must be one of the following:

A Federally recognized Indian Tribe; Tribal organization; or urban Indian organization as defined by 25 U.S.C. 1652. Only one application per Tribe or Tribal organization is allowed. Applicants may only apply for one category. Submit documentation of non-profit status. There is no requirement for minimum target population size for Category I and II applicants. Age range is between 5 to 19 years of age for the school age population. Category III applicants must serve a minimum target population size of 100 to 150 children and youth annually, between 5 to 19 years of age for the so-called school age population.

B. Cost Sharing or Matching—The CYP does not require matching funds or cost sharing.

C. Other Requirements

The following documentation is required (if applicable):

Tribal Resolution—A resolution of the Indian Tribe served by the project must accompany the application submission. This can be attached to the electronic application. An Indian Tribe that is proposing a project affecting another Indian Tribe must include resolutions from all affected Tribes to be served. Applications by Tribal organizations will not require a specific Tribal resolution if the current Tribal resolution(s) under which they operate would encompass the proposed grant activities. Draft resolutions are acceptable in lieu of an official resolution. However, an official signed Tribal resolution must be received by the Division of Grants Operations (DGO) prior to the beginning of the Application Review (July 22-24, 2009). If an official signed resolution is not received by July 27, 2009, the application will be considered incomplete, ineligible for review, and returned to the applicant without consideration. Applicants submitting additional documentation after the initial application submission are required to ensure the information was received by the IHS by obtaining documentation confirming delivery (i.e. FedEx tracking, postal return receipt, etc.).

Nonprofit organizations must submit a copy of the 501(c)(3) Certificate. Ineligible applications include requesting for water, sanitation, and waste management; tuition, fees, or stipends for certification or training of staff to provide direct services, the pre-planning, design, and planning of construction for facilities and those seeking funding in two categories.

IV. Application and Submission Information

A. Address to Request Application Package HHS-2009-IHS-CYP-0001.

Application package (HHS-2009-IHS-CYP-0001) may be found in Grants.gov. Information regarding the Letter of Intent and the electronic application process may be obtained from:

Program contact | Grants contact
Ms. Judith Thierry, D.O., M.P.H., Office of Clinical and Preventive Services, Indian Health Service, 801 Thompson Avenue, Suite 300, Rockville, Maryland 20852, (301) 443-5070, Fax: (301) 594-6213 | Ms. Norma Jean Dunne, Division of Grants Operations, Indian Health Service, 801 Thompson Avenue, TMP 360, Rockville, Maryland 20852, (301) 443-5204, Fax: (301) 443-9602.

The entire application kit is also available online at: http://www.grants.gov

B. Content and Form of Application Submission if prior approval was obtained for paper submission:

• Be single-spaced.

• Be typewritten.

• Have consecutively numbered pages.

• If unable to submit electronically, submit using a black type not smaller than 12 characters per one inch.

• Submit on one side only of standard size 8½″ x 11″ paper.

• Do not tab, glue, or place in a plastic holder.

• Contain a narrative that does not exceed 20 typed pages that includes the other submission requirements below. (The 20-page narrative does not include the work plan, standard forms, Tribal resolutions (if necessary), table of contents, budget, budget justifications, multi-year narratives, multi-year budget, multi-year budget justifications, and/or other appendix items.)

1. One Page Abstract, Introduction and Need for Assistance.

2. Project Objective(s), Approach, and Work Plan.

3. Project Evaluation.

4. Organizational Capabilities, Key Personnel and Qualifications.

5. Categorical Budget and Budget Justification by Item.

Public Policy Requirements: All Federal-wide public policies apply to IHS grants with the exception of the Lobbying and Discrimination Policy.

C. Submission Dates and Times

Applications must be submitted electronically through Grants.gov by close of business Thursday June 25, 2009. If technical issues arise and the applicant is unable to successfully complete the electronic application process, the applicant must contact Grants Policy staff fifteen days prior to the application deadline and advise them of the difficulties you are having submitting your application online. The Grants Policy staff will determine whether you may submit a paper application (original and two copies). The grantee must obtain prior approval, in writing, from the Grants Policy staff allowing the paper submission. Otherwise, applications not submitted through Grants.gov may be returned to the applicant and will not be considered for funding.

As appropriate, paper applications (original and two copies) are due by Thursday June 25, 2009. Paper applications shall be considered as meeting the deadline if received by June 25, 2009 or postmarked on or before the deadline date. Applicants should request a legibly dated U.S. Postal Service postmark or obtain a legibly dated receipt from a commercial carrier or U.S. Postal Service. Private metered postmarks will not be acceptable as proof of timely mailing and will not be considered for funding.

Late applications will be returned to the applicant without review or consideration.

A hard copy and/or faxed Letter of Intent must be received on or before Wednesday, May 28, 2009. This should be two full pages on letterhead. The fax number is (301) 594-6213 Attn: Judith Thierry, MCH Program Office. Applications must be received on or before Thursday June 25, 2009. The anticipated start date of the cooperative agreement is September 16, 2009.

In the Letter of Intent and application, state whether you will apply for a Category I—Small Project, Category II—Medium Project, or Category III—Large Project. Describe the proposed project, including health topics and mind/body/spirit issues to be addressed. A partial list includes: Nutrition, healthy weight, and fitness; drugs, alcohol and tobacco control; scholarship and academic success; social skills and mental health; and injury prevention. A letter of intent is non binding, but a mandatory request for information that will assist in planning both the review and post award phase. Applicants will be notified by fax that their letter of intent has been received by the program, as it is received.

Hand Delivered Proposals: Hand delivered proposals will be accepted from 8 a.m. to 5 p.m. Eastern Standard Time, Monday through Friday. Applications will be considered to meet the deadline if they are received on or before the deadline, with hand-carried applications received by close of business 5 p.m. For mailed applications, a dated, legible receipt from a commercial carrier or the U.S. Postal Service will be accepted in lieu of a postmark. Private metered postmarks will not be accepted as proof of timely mailing. Late applications will not be accepted for processing and will be returned to the applicant without further consideration for funding. Applicants are cautioned that express/overnight mail services do not always deliver as agreed. IHS will not accommodate transmission of applications by fax or e-mail.

Late applications will not be accepted for processing, will be returned to the applicant, and will not be considered for funding.

Extension of deadlines: IHS may extend application deadlines when circumstances such as acts of God (floods, hurricanes, etc.) occur, or when there are widespread disruptions of mail service, or in other rare cases. Determination to extend or waive deadline requirements rests with the Grants Management Officer, DGO.

D. Intergovernmental Review

Executive Order 12372 requiring intergovernmental review is not applicable to this program.

E. Funding Restriction

Pre-award costs are allowable at grantees own risk. Prior approval must be obtained from the Program Official.

The available funds are inclusive of direct and indirect costs.

Only one cooperative agreement will be awarded per applicant.

Ineligible Project Activities

The CYP may not be used to support recurring operational programs or to replace existing public and private resources. Note: The inclusion of the following projects or activities in an application will render the application ineligible and the application will be returned to the applicant:

• Projects related to water, sanitation, and waste management.

• Projects that include tuition, fees, or stipends for certification or training of staff to provide direct services.

• Projects that include pre-planning, design, and planning of construction for facilities.

• Projects that seek funding in two funding categories.

Other Limitations

• Grantee must not have overlapping award dates. If a funding date overlaps, grantee must terminate from current award or have the newly funded grant amount reduced to avoid dual funding. This announcement applies to new and existing applicants.

• The current project is not progressing in a satisfactory manner; or

• The current project is not in compliance with program and financial reporting requirements.

• Delinquent Federal Debts—No award shall be made to an applicant who has an outstanding delinquent Federal debt until either:

1. The delinquent account is paid in full; or

2. A negotiated repayment schedule is established and at least one payment is received.

F. Other Submission Requirements

Electronic Submission—The preferred method for receipt of applications is electronic submission through Grants.gov. However, should any technical problems arise regarding the submission, please contact Grants.gov Customer Support at (800) 518-4726 or support@grants.gov. The Contact Center hours of operation are Monday-Friday from 7 a.m. to 9 p.m. (Eastern Standard Time). If you require additional assistance please contact the IHS Grants Policy staff at (301) 443-6528 at least fifteen days prior to the application deadline. To submit an application electronically, please use the http://www.Grants.gov Web site. Download a copy of the application package, on the Grants.gov Web site, complete it offline and then upload and submit the application via the Grants.gov Web site. You may not e-mail an electronic copy of a grant application.

Please note the following:

• Under the new IHS requirements, paper applications are not allowable. However, if technical issues arise and the applicant is unable to successfully complete the electronic application process, the applicant must contact Grants Policy staff fifteen days prior to the application deadline and advise them of the difficulties you are having submitting your application online. The Grants Policy staff will determine whether you may submit a paper application. The grantee must obtain prior approval, in writing, from the Grants Policy staff allowing the paper submission. Otherwise, applications not submitted through Grants.gov may be returned to the applicant and it will not be considered for funding.

• The paper application (original and two copies) may be sent directly to the DGO, 801 Thompson Avenue, TMP, Suite 360, Rockville, MD 20852 by Thursday June 25, 2009.

• When you enter the Grants.gov Web site, you will find information about submitting an application electronically through the Web site, as well as the hours of operation. We strongly recommend that applicants not wait until the deadline date to begin the application process through the Grants.gov Web site.

• To use Grants.gov, you, as the applicant, must have a DUNS number and register with the Central Contractor Registry (CCR). You should allow a minimum of five days to complete CCR registration. See below on how to apply.

• You must submit all documents electronically, including all information typically included on the SF-424 and all necessary assurances and certifications.

• Your application must comply with any page limitation requirements described in the program announcement. After you electronically submit your application, you will receive an automatic acknowledgment from Grants.gov that contains a Grants.gov tracking number. The IHS will retrieve your application from the Grants.gov Web site.

• You may access the electronic application for this program on http://www.Grants.gov.

• You must search for the downloadable application package by CFDA number 93.933.

• To receive an application package, the applicant must provide the Funding Opportunity Number: HHS-2009-IHS-CYP-001.

• E-mail applications will not be accepted under this announcement.

G. DUNS Number

Beginning October 1, 2003, applicants were required to have a Dun and Bradstreet (DUNS) number. The DUNS number is a nine-digit identification number which uniquely identifies business entities. Obtaining a DUNS number is easy and there is no charge. To obtain a DUNS number, access http://www.dnb.com/us/ or call (866) 705-5711. Interested parties may wish to obtain their DUNS number by phone to expedite the process.

Applications submitted electronically must also be registered with the CCR. A DUNS number is required before CCR registration can be completed. Many organizations may already have a DUNS number. Please use the number listed above to investigate whether or not your organization has a DUNS number. Registration with the CCR is free of charge.

Applicants may register by calling (888) 227-2423. Applications must also be registered with the CCR to submit electronically. Please review and complete the CCR “Registration Worksheet” located in the appendix of the CYP application kit or on http://www.Grants.gov/CCRRegister.

More detailed information regarding these registration processes can be found at http://www.Grants.gov Web site.

V. Application Review Information

The instructions for preparing the application narrative also constitute the evaluation criteria for reviewing and scoring the application. Weights assigned to each section are noted in parentheses. The 20-page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully.

1. Criteria: Introduction and Need for Assistance. (10 points)

• Provide a one-page summary of the proposed project. State whether the project is a Category I, II or III and the size of the children and youth target group. (Category I and II have no minimum and Category III projects must serve a minimum of 100 children annually.)

• Describe and define the target population at the program location(s) (i.e., Tribal population and Tribal census tract data (when available); number of children and/or youth; data from previous community needs assessment; data from technical assistance site visit(s); school, recreation, after school or juvenile justice sources). Information sources must be appropriately identified.

• Describe the geographic location of the proposed project including any geographic barriers to the health care users in the area to be served. Append a detailed map.

• Describe the Tribe's/Tribal organization's current health operation. Include what programs and services are currently provided (i.e., Federally funded, State funded, etc.). Include information regarding whether the Tribe/Tribal organization has a health department and/or health board and how long it has been operating. Provide similar information on the educational and juvenile justice organization programs and services.

• Describe the existing resources and services available, including the maintenance of Native healing systems and intergenerational activities (i.e., mentoring, language, traditional teaching, storytelling, where appropriate, which are related to the specific program/service the applicant is proposing to provide). Supply the name, address, and phone number of a contact person for each.

• Identify all current and previous children and youth activities funded, dates of funding, and summary of project accomplishments. State how previous funds facilitated the progression of health or wellness development relative to the current proposed project. (Copies of reports will not be accepted.)

• Explain the reason for your proposed project by identifying specific needs of the target population and gaps or weaknesses in services or infrastructure that will be addressed by the proposed project. Explain how these gaps/weaknesses were discovered. Describe past efforts, collaborations with State/county programs and availability of program funding from Federal/non-Federal sources.

• Summarize the applicable national, IHS, and/or State standards, laws and regulations, and Tribal codes, such as those in the arenas of safety, school attendance, and child welfare.

Project Objective(s), Work Plan and Approach. (40 points)

A. Identify the proposed project objective(s) addressing the following measurable criteria.

• Objective is specific.

• Objective is measurable and (if applicable) quantifiable.

• Objective is achievable.

• Objective is relevant and outcome oriented.

• Objective is time-limited.

Example: The Project will increase the number of students who consistently participate in the program during FY 2010 by 10% by orienting students through the use of contracts, peer-mentoring and incentives at the start of the school year and at mid-school year.

B. State objectives concisely. Describe what the project intends to accomplish, what changes are expected in knowledge, attitudes, behaviors, policies, etc., and how the objectives will be measured, including if the accomplishments are replicable.

C. Describe the approach, including the activities, tasks and resources needed to implement and complete the project. Include a chart denoting start/finish of milestones, accountabilities and how you will know the activities and tasks are complete. Include the date the project will begin to accept clients.

D. Discuss expected results. Describe data collection for the project, and how it will be obtained, analyzed, and maintained by the project. Data should include, but is not limited to the number of children and youth served, services provided, program satisfaction, short term impact (e.g., changes in knowledge, attitudes, behaviors, policies, etc.), costs associated with the program and long-term outcomes (e.g., outcomes specific to program objectives). Describe how data collection will support the stated project objectives and how it will support the project evaluation in order to determine the impact of the project. Address how the proposed project will result in change or improvement in health or well-being status, program operations, or processes for each proposed project objective.

E. Also address what, if any tangible products are expected from the project (i.e., policies and procedure manual; needs assessment; curricula or educational materials; publication or formal reports beyond those required by the grant).

F. Address the extent to which the proposed project will build the local capacity to provide, improve, or expand services that address the need of the target population.

G. Submit a work plan in the appendix which includes the following information:

• Provide the action steps on a time line for accomplishing the proposed project objective(s).

• Identify who will perform the action steps.

• Identify who will supervise the action steps taken.

• Identify who will accept and/or approve work products at the end of the proposed project.

• Include any training that will take place during the proposed project, who will conduct the training and who will be attending the training.

• Include evaluation activities planned and survey tools or instruments.

H. If consultants or contractors will be used during the proposed project, please include the following information in their position description and scope of work (or note if consultants/contractors will not be used):

• Educational requirements.

• Desired qualifications and work experience.

• Expected work products to be delivered on a time line.

• Contractor's supervisor.

• If a potential consultant/contractor has already been identified, please include a resume and letter of commitment in the appendix.

Project Evaluation. (30 points)

Describe the methods for evaluating the project activities. Each proposed project objective should have an evaluation component and the evaluation activities should appear on the work plan. At a minimum, projects should describe plans to collect/summarize and process evaluation information (e.g., reach of the program including numbers and/or age-ranges of the youth served) about all project activities. When applicable, impact evaluation activities (i.e., those designed to assess/summarize initial and/or follow-up attitudes, satisfaction, knowledge, behaviors, practices, and/or policies/procedures) should also be described. Please address the following for each of the proposed objectives:

• What data will be collected to evaluate the success of the objective(s).

• How the data will be collected to assess the program's objective(s) (e.g., methods used such as, but not limited to focus groups, surveys, interviews, or other data collection activities).

• When the data will be collected and the data analysis completed.

• The extent to which there are specific data sets, databases or registries already in place to measure/monitor meeting objectives.

• Who will collect the data and any cost of the evaluation (whether internal or external).

• Where and to whom the data will be presented.

Process Evaluation Example: The Project will conduct eight school-based obesity prevention educational activities reaching up to 100 students (in grades 9-12) by the end of Year I. This will be assessed by having project staff document the dates of attendance at, and grades reached by educational sessions conducted in Year I. Project sign-in sheets will assist in identifying number of and grades of student participants.

Impact Evaluation Example: The project will increase the use of all terrain vehicle (ATV) helmets (what specifically) by 10% (goal or how much) by the end of Project Year I (when or a target date). This will be assessed through the conduct of a baseline and follow-up ATV helmet use surveys (what tool) conducted by the project staff at well-known ATV trails (how) during the third and ninth month of project Year I (limited time frame).

Organizational Capabilities, Key Personnel and Qualifications. (10 points)

• Describe the organizational structure of the Tribe/Tribal organization beyond health care activities.

• If management systems are already in place, simply note it. (A copy of the 25 CFR Part 900, Subpart F, is available in the CYP application kit.)

• Describe the ability of the organization to manage the proposed project. Include information regarding similarly sized projects in scope and financial assistance as well as other grants and projects successfully completed.

• Describe what equipment (i.e., fax machine, phone, computer, etc.) and facility space (i.e., office space) will be available for use during the proposed project. Include information about any equipment not currently available that will be purchased through the grant.

• List key personnel who will work on the project. Identify existing personnel, grant writer(s) if utilized and new program staff to be hired. Include title used in the work plan. In the appendix, include position descriptions and resumes for all key personnel. Position descriptions should clearly describe each position and duties, indicating desired qualifications, experience, requirements related to the proposed project and how they will be supervised. Resumes must indicate that the proposed staff member is qualified to carry out the proposed project activities and who will determine if the work of a contractor is acceptable. Note who will be writing the progress reports. If a position is to be filled, indicate that information on the proposed position description.

• If the project requires additional personnel (i.e., IT support, volunteers, drivers, chaperones, etc.), note these and address how the Tribe/Tribal organization will sustain the position(s) after the grant expires. (If there is no need for additional personnel, simply note it.)

Categorical Budget and Budget Justification. (10 points)

• Provide a categorical budget (Form SF 424A, Budget Information Non-Construction Programs) completing each of the budget periods requested.

• If indirect costs are claimed, indicate and apply the current negotiated rate to the budget. Include a copy of the rate agreement in the appendix.

• Provide a narrative justification explaining why each line item is necessary/relevant to the proposed project. Include sufficient cost and other details to facilitate the determination of cost allowability (i.e., relevance of travel, crucial supplies, age-appropriate equipment, reason for incentives and honoraria, etc.).

• Indicate any special start-up costs.

• Indicate in Year II and IV budgets anticipated travel costs for workshops for one or more persons if deemed appropriate/desirable.

Multi-Year Project Requirements

Projects requiring a second, third, fourth, and/or fifth year must include a brief project narrative and budget (one additional page per year) addressing the developmental plans for each additional year of the project.

Appendix Items

• Work plan, logic model and/or time line for proposed objectives.

• Position descriptions for key staff.

• Resumes of key staff that reflect current duties.

• Consultant or contractor proposed scope of work and letter of commitment (if applicable).

• Current Indirect Cost Agreement.

• Organizational chart(s) highlighting proposed project staff and their supervisors as well as other key contacts within the organization and key community contacts.

• Map of area to benefit project identifying where target population resides and project location(s). Include trails, parks, schools, bike paths and other such applicable information.

• Multi-Year Project Requirements (if applicable).

• Additional documents to support narrative (i.e., data tables, key news articles, etc.).

2. Review and Selection Process:

In addition to the above criteria/requirements, applications are considered according to the following:

A. Letter of Intent Submission Deadline: Thursday, May 28, 2009.

B. Application Submission Deadline: Thursday, June 25, 2009. Applications submitted in advance of or by the deadline and verified in Grants.gov will undergo preliminary review to determine that:

• The applicant and proposed project type is eligible in accordance with this grant announcement.

• The application is not a duplication of a previously funded project.

• The application narrative, forms, and materials submitted meet the requirements of the announcement allowing the review panel to undertake an in-depth evaluation; otherwise, it may be returned.

• Competitive Review of Eligible Applications review dates: July 22-24, 2009.

• Applications meeting eligibility requirements that are complete, responsive, and conform to this program announcement will be reviewed for merit by the Ad Hoc Objective Review Committee (ORC) appointed by the IHS to review and make recommendations on these applications. The review will be conducted in accordance with the IHS Objective Review Guidelines. The technical review process ensures selection of quality projects in a national competition for limited funding. Applications will be evaluated and rated on the basis of the evaluation criteria listed in Section V. The criteria are used to evaluate the quality of a proposed project, determine the likelihood of success, and assign a numerical score to each application. The scoring of approved applications will assist the IHS in determining which proposals will be funded if the amount of CYP funding is not sufficient to support all approved applications. Applications recommended for approval, having a score of 70 or above by the ORC and scored high enough to be considered for funding, are ranked and forwarded to the MCH Program for further recommendation. Applications scoring below 70 points will be disapproved and returned to the applicant. Applications that are approved but not funded will not be carried over into the next cycle for funding consideration.

3. Anticipated Announcement and Award Dates: The IHS anticipates announcement date the week of August 3, 2009 and award date of September 16, 2009.

VI. Award Administration Information

1. Award Notices

Notification: Approximately the week of August 3, 2009. The program officer will notify the contact person identified on each proposal of the results in writing via postal mail. Applicants whose applications are declared ineligible will receive written notification of the ineligibility determination and their original grant application via postal mail. The ineligible notification will include information regarding the rationale for the ineligible decision citing specific information from the original grant application. Applicants who are approved but unfunded and disapproved will receive a copy of the Executive Summary which identifies the weaknesses and strengths of the application submitted. Applicants which are approved and funded will be notified through the Financial Assistant Award (FAA) document. The FAA will serve as the official notification of a grant award and will state the amount of Federal funds awarded, the purpose of the grant, the terms and conditions of the grant award, the effective date of the award, the project period, and the budget period. Any other correspondence announcing to the Applicant's Project Director that an application was recommended for approval is not an authorization to begin performance. Pre-award costs are not allowable charges under this program grant.

2. Administrative and National Policy Requirements

Grants are administered in accordance with the following documents:

A. This cooperative agreement.

B. 45 CFR, Part 92, “Uniform Administrative Requirements for Grants and Cooperative Agreements to State, Local, and Tribal Governments”, or 45 CFR Part 74, “Uniform Administration Requirements for Awards and Subawards to Institutions of Higher Education, Hospitals, Other NonProfit Organizations, and Commercial Organizations.”

C. Public Health Service Grants Policy Statement.

D. Grants Policy Directives.

E. Appropriate Cost Principles: OMB Circular A-87, “State, Local, and Indian Tribal Governments,” or OMB Circular A-122, “Non-Profit Organizations.”

F. OMB Circular A-133, “Audits of States, Local Governments, and Non-Profit Organizations.”

G. Other Applicable OMB Circulars.

3. Reporting

A. Progress Report—Program progress reports are required quarterly by December 15, March 15, June 15, and September 15 of each funding year. These reports will include a brief comparison of actual accomplishments to the goals established for the period, reasons for slippage (if applicable), and other pertinent information as required/outlined in award letters. A final report must be submitted within 90 days of expiration of the budget/project period.

B. Financial Status Report—Semi-annual financial status reports (FSR) must be submitted within 30 days of the end of the half year. Final FSR are due within 90 days of expiration of the budget/project period. This is a total of three times a year. Expected carry-overs should be noted in a separate FSR. Standard Form 269 can be downloaded from http://www.whitehouse.gov/omb/grants/sf269.pdf for financial reporting.

VII. Agency Contact(s)

Interested parties may obtain CYP programmatic information from the MCH Program Coordinator through the information listed under Section IV of this program announcement. Grant-related and business management information may be obtained from the Grants Management Specialist through the information listed under Section IV of this program announcement. Please note that the telephone numbers provided are not toll-free.

VIII. Other Information

The Public Health Service (PHS) is committed to achieving the health promotion and disease prevention objectives of Healthy People 2010, a PHS-led activity for setting priority areas. Potential applicants may obtain a printed copy of Healthy People 2010, (Summary Report No. 017-001-00547-9) or CD-ROM, Stock No. 017-001-00547-9, through the Superintendent of Documents, Government Printing Office, P.O. Box 371954, Pittsburgh, PA 15250-7945, (202) 512-1800. You may also access this information at the following Web site: http://www.healthypeople.gov/Publications.

The U.S. Census Bureau website contains AI/AN specific data at the Tribal census tract level. Data is provided at http://factfinder.census.gov/home/AI/AN/index.html by Tribe and language; reservations and other AI/AN areas; county and Tribal census tract level; and economic category.

The PHS strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the PHS mission to protect and advance the physical and mental health of the American people.

Dated: May 13, 2009.
Robert G. McSwain,
Deputy Director, Indian Health Service.

[FR Doc. E9-11624 Filed 5-18-09; 8:45 am]

BILLING CODE 4165-16-P